DEPARTMENT OF TRANSPORTATION

Federal Aviation Administration

Notice of Availability of a Final Environmental Assessment (Final EA) and a Finding of No Significant Impact (FONSI)/Record of Decision (ROD) for the New Airport Traffic Control Tower and Base Building at Cherry Capital Airport, Traverse City, MI

AGENCY: Federal Aviation Administration (FAA), DOT.

ACTION: Notice of Availability of a Final Environmental Assessment (Final EA) and a Finding of No Significant Impact (FONSI)/Record of Decision (ROD) for the New Airport Traffic Control Tower and Base Building at Cherry Capital Airport, Traverse City, Michigan.

SUMMARY: The Federal Aviation Administration (FAA) is issuing this notice to advise the public that the FAA has prepared, and approved on February 8, 2010, a Finding of No Significant Impact (FONSI)/Record of Decision (ROD) based on the Final Environmental Assessment (Final EA) for a New Airport Traffic Control Tower (ATCT) and Base Building at Cherry Capital Airport (TVC) in Traverse City, Michigan. The FAA prepared the Final EA in accordance with the National Environmental Policy Act and the FAA's regulations and guidelines for environmental documents. It was accepted on November 2, 2009 by the FAA's Responsible Federal Official.

FOR FURTHER INFORMATION CONTACT: Ms. Virginia Marcks, Manager, Infrastructure Engineering Center, AJW-C14D, Federal Aviation Administration, 2300 East Devon Avenue, Des Plaines, Illinois 60018. Telephone number: (847) 294-7494.

SUPPLEMENTARY INFORMATION: The Final EA evaluated the construction and operation of a new ATCT at TVC. The replacement ATCT will be a Low Activity Level facility with a 395 square foot cab accommodating two operational positions and two support positions. The ATCT will be constructed on 1.64 acres of land owned by the airport, 520 feet northeast of the existing ATCT and will have a cab floor height of 752 feet above mean sea level, located within the footprint of Airport Access Road. The existing ATCT would be decommissioned after the ATCT is operational. The increased square footage of the ATCT will provide the capability to meet future expansion requirements. The Base Building design will conform to the guidelines of the Terminal Facilities Design Standards for Base Building and Environmental Support Buildings with a modified slab-on-grade 7,000 SF floor plan. A new link building will connect the two structures, and paved surface parking will be constructed next to the Base Building. A 10-foot security fence will be constructed around the complex. The project will incorporate energy conservation, recycled materials, and green technologies where practicable. In addition, the Runway 28 localizer antenna and shelter will be shifted slightly to maintain optimal operational characteristics. The existing antenna and shelter will be removed once the new equipment is operational.

The new ATCT will accommodate current and future modernization of the NAS, improve visibility of airport surfaces, provide adequate space to improve operational and administrative efficiency, accommodate future air traffic growth and overall, and increase the efficient functionality of the facility.

The Final EA has been prepared in accordance with the National Environmental Policy Act (NEPA) of 1969, as amended, and FAA Order 1050.1E, “Environmental Impacts: Policies and Procedures.” In addition, FAA Order 5050.4B, “National Environmental Policy Act (NEPA) Implementing Instructions for Airport Actions” has been used as guidance in the preparation of the environmental analysis.

Issued in Des Plaines, Illinois, on February 19, 2010.
Virginia Marcks,
Manager, Infrastructure Engineering Center, Chicago, AJW-C14D, Federal Aviation Administration.

[FR Doc. 2010-3924 Filed 2-25-10; 8:45 am]

BILLING CODE 4910-13-P